DEPARTMENT OF EDUCATION

Office of Special Education and Rehabilitative Services; Notice Inviting Applications for New Awards for Fiscal Years (FYs) 2000 and 2001

AGENCY: Department of Education.

ACTION: Correction.

SUMMARY: On October 18, 2000, a notice inviting applications for new awards under the Office of Special Education and Rehabilitative Services; Grant Applications under the Special Education—State Program Improvement Grants Program was published in the Federal Register(65 FR 62536). Under the State Improvement Grant (84.323A) priority on page 62536, in column 2, “Page Limits” section, second sentence, we inadvertently omitted the page limits. The second sentence of the “Page Limits” section reads “You must limit Part III to the equivalent of no more than the number of pages listed under each applicable priority, using the following standards * * *”. This notice will correct that sentence to read, “You must limit Part III to the equivalent of no more than 100 pages using the following standards * * *”.

FOR FURTHER INFORMATION CONTACT: For further information on this notice contact Debra Sturdivant, U.S. Department of Education, 600 Independence Avenue, SW, room 3317, Switzer Building, Washington, DC 20202-2641. FAX: (202) 205-8717 (FAX is the preferred method for requesting information). Telephone: (202) 205-8038. Internet: Debra_Sturdivant@ed.gov

If you use a TDD you may call the Federal Information Relay Service (FIRS) at 1-800-877-8339.

Electronic Access to This Document

You may view this document, as well as all other Department of Education documents published in the Federal Register, in text or portable document format (PDF) on the internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC., area at (202) 512-1530.

Note: The official version of this document is the document published in the Federal Register. Free Internet access to the official edition of the Federal Register and the Code of Federal Regulations is available on GPO Access at: http://www.access.gpo/nara/index.html.

Program Authority: 20 U.S.C. 1482.

Dated: December 20, 2000.
Curtis L. Richards,
Acting Assistant Secretary for Special Education and Rehabilitative Services.

[FR Doc. 00-32886 Filed 12-26-00; 8:45 am]

BILLING CODE 4000-01-P